DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Assessing Stakeholder Attitudes and Concerns Toward Ecosystem Management.

Form Number(s): None.

OMB Approval Number: None.

Type of Request: Regular submission.

Burden Hours: 3,333.

Number of Respondents: 10,000.

Average Hours Per Response: 20 minutes.

Needs and Uses: The NOAA National Marine Fisheries Service supports an ecosystem approach to fisheries management. However, relatively little information has been collected in a systematic manner concerning stakeholder perceptions of an ecosystem approach to management. An understanding and knowledge of stakeholder preferences for broad-level management objectives, as well as opinions toward the current management system and status of marine resources, would assist the agency in making decisions that maximize the total societal benefits from marine resources. Given the increasing emphasis on ecosystem issues, NOAA Fisheries will conduct a survey of key stakeholders concerning their preferences and perceptions of both current fisheries management and an ecosystem approach to management. The survey is well timed to establish a baseline measure of attitudes toward ecosystem approaches to management and to provide key stakeholders with the opportunity to express their preferences for the types of goals and objectives that should be pursued.

Affected Public: Business or other for-profit organizations; Individuals or households; Not-for-profit institutions; Federal government; State, local or tribal government.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 14, 2005.
Gwellnar Banks,
Management Analyst, Office of the Chief Information Officer.

[FR Doc. 05-7778 Filed 4-18-05; 8:45 am]

BILLING CODE 3510-22-P